DEPARTMENT OF HOUSING AND URBAN DEVELOPMENT

[Docket No. FR-5376-N-72]

Notice of Submission of Proposed Information Collection to OMB, HUD-Owned Real Estate—Sales Contracts and Addenda (HUD Programs)

AGENCY: Office of the Chief Information Officer, HUD.

ACTION: Notice.

SUMMARY: The proposed information collection requirement described below has been submitted to the Office of Management and Budget (OMB) for review, as required by the Paperwork Reduction Act. The Department is soliciting public comments on the subject proposal.

The respondents are real estate listing brokers for HUD-owned properties who submit sales contracts and addenda in conjunction with offers to purchase HUD-owned property. The sales contracts and addenda will be used in binding contracts between the purchasers and HUD, and to meet the requirements of the Lead Disclosure Rule relative to the disclosure of known lead-based paint and lead-based paint hazards in HUD sales of pre-1978 construction.

DATES: Comments Due Date: August 26, 2010.

ADDRESSES: Interested persons are invited to submit comments regarding this proposal. Comments should refer to the proposal by name and/or OMB Approval Number (2502-0306) and should be sent to: HUD Desk Officer, Office of Management and Budget, New Executive Office Building, Washington, DC 20503; fax: 202-395-5806.

FOR FURTHER INFORMATION CONTACT: Leroy McKinney, Jr., Reports Management Officer, QDAM, Department of Housing and Urban Development, 451 Seventh Street, SW, Washington, DC 20410; e-mail Leroy McKinney, Jr. at Leroy.McKinneyJr@hud.gov or telephone (202) 402-5564. This is not a toll-free number. Copies of available documents submitted to OMB may be obtained from Mr. McKinney.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: HUD-Owned Real Estate—Sales Contract and Addendums.

OMB Approval Number: 2502-0306.

Form Numbers: HUD-9544, HUD-9548, HUD-9548-B, HUD-9548-C, HUD-9548-D, HUD-9548-E, HUD-9548-F, HUD-9548-G, HUD 9548-H, HUD 9545-Y, HUD 9545-Z; and SAMS-1100, SAMS-1101, SAMS-1103, SAMS-1106, SAMS-1106-C, SAMS-1108, SAMS-1110, SAMS-1111, SAMS-1111-A, SAMS-1117, SAMS-1120, SAMS-1204, SAMS-1205 HUD forms can be obtained at: http://portal.hud.gov/portal/page/portal/HUD/program_offices/administration/hudclips/forms.

Description of the Need for the Information and Its Proposed Use:

The respondents are real estate listing brokers for HUD-owned properties who submit sales contracts and addenda in conjunction with offers to purchase HUD-owned property. The sales contracts and addenda will be used in binding contracts between the purchasers and HUD, and to meet the requirements of the Lead Disclosure Rule relative to the disclosure of known lead-based paint and lead-based paint hazards in HUD sales of pre-1978 construction.

Frequency of Submission: On-occasion.

| Number of respondents | Annual responses | × | Hours per response | = | Burden hours
Reporting Burden | 13,155 | 785,748 | × | 254,626.00 |  | 6,590,715

Total Estimated Burden Hours: 6,590,715.

Status: Revision of a currently approved collection.

Authority: Section 3507 of the Paperwork Reduction Act of 1995, 44 U.S.C. 35, as amended.

Dated: July 22, 2010.
Leroy McKinney, Jr.,
Departmental Reports Management Officer, Office of the Chief Information Officer.

[FR Doc. 2010-18412 Filed 7-26-10; 8:45 am]

BILLING CODE 4210-67-P